POSTAL REGULATORY COMMISSION

[Docket No. CP2012-23; Order No. 2137]

Amendment to Postal Product

AGENCY: Postal Regulatory Commission.

ACTION: Notice.

SUMMARY: The Commission is noticing a recent Postal Service filing concerning an amendment to Parcel Select Contract 2 to the competitive product list. This notice informs the public of the filing, invites public comment, and takes other administrative steps.

DATES: Comments are due: August 6, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Filings

III. Request for Supplemental Information

IV. Ordering Paragraphs

I. Introduction

On July 29, 2014, the Postal Service filed notice that it has agreed to a second Amendment to the existing Parcel Select Contract 2 negotiated service agreement approved in this docket.¹ In support of its Notice, the Postal Service includes a redacted copy of the Amendment.

¹ Notice of United States Postal Service of Filing Second Amendment to Parcel Select Contract 2, July 29, 2014 (Notice).

The Postal Service also filed the unredacted Amendment under seal. The Postal Service seeks to incorporate by reference the Application for Non-Public Treatment originally filed in this docket for the protection of information that it has filed under seal. Id. at 1.

The Amendment revises Section I.F of the agreement concerning annual price adjustments. Id., Attachment A, at 1. The Postal Service states that the revised language was inadvertently excluded from the first Amendment filed in this docket on March 18, 2014. Id. at 1. It asserts that the second Amendment will not materially affect the cost coverage of Parcel Select Contract 2. Id. Thus, it asserts that the supporting financial documentation and financial certification previously provided in this docket remain applicable. Id.

II. Notice of Filings

The Commission invites comments on whether the changes presented in the Postal Service's Notice are consistent with the policies of 39 U.S.C. 3632, 3633, or 3642, 39 CFR 3015.5, and 39 CFR part 3020, subpart B. Comments are due no later than August 6, 2014. The public portions of these filings can be accessed via the Commission's Web site (http://www.prc.gov).

The Commission appoints Curtis E. Kidd to represent the interests of the general public (Public Representative) in this docket.

III. Request for Supplemental Information

To clarify the Postal Service's filings in this proceeding, the Postal Service is requested to provide written responses to the following questions:

1. Section I.F.3 of the Amendment states that “[t]he Postal Service shall supply Customer with the updated price for each cell shown in Table 1 no later than May 1st of each Contract Year.” Id., Attachment A, at 1. However, the Amendment does not contain any tables. Please clarify what effect the Amendment is intended to have on Table 1 listed directly after Section I.F.4. of the original contract (e.g., remove, replace, or leave Table 1 intact). If the Amendment is intended to replace the table directly after Section I.F.4 of the original contract with a different table, please file the revised table with the Commission.

2. Neither the Notice nor the Amendment contains language describing the effective date of the Amendment. Please identify the effective date of the Amendment.

The Postal Service's response to the request for supplemental information is due no later than August 4, 2014.

IV. Ordering Paragraphs

It is ordered:

1. The Commission reopens Docket No. CP2012-23 for consideration of matters raised by the Postal Service's Notice.

2. Pursuant to 39 U.S.C. 505, the Commission appoints Curtis E. Kidd to serve as an officer of the Commission (Public Representative) to represent the interests of the general public in this proceeding.

3. The Postal Service's response to the request for supplemental information is due no later than August 4, 2014.

4. Comments are due no later than August 6, 2014.

5. The Secretary shall arrange for publication of this order in the Federal Register.

By the Commission.
Shoshana M. Grove,
Secretary.

[FR Doc. 2014-18422 Filed 8-4-14; 8:45 am]

BILLING CODE 7710-FW-P